DEPARTMENT OF THE INTERIOR

Bureau of Land Management

Notice of Proposed Withdrawal and Opportunity for Public Meeting; Arizona

AGENCY: Bureau of Land Management, Interior.

ACTION: Notice.

SUMMARY: The Secretary of the Interior proposes to withdraw approximately 633,547 acres of public lands and 360,002 acres of National Forest System lands for up to 20 years from location and entry under the Mining Law of 1872, 30 U.S.C. 22 et seq., on behalf of the Bureau of Land Management and the United States Forest Service. The purpose of the withdrawal, if determined to be appropriate, would be to protect the Grand Canyon watershed from adverse effects of locatable hardrock mineral exploration and mining. This notice segregates the lands from location and entry under the 1872 Mining Law for up to 2 years to allow time for various studies and analyses, including appropriate National Environmental Policy Act analysis. These actions will support a final decision on whether or not to proceed with a withdrawal. The lands will remain open to the mineral leasing, geothermal leasing, mineral materials, and public land laws.

DATES: Comments and requests for a public meeting must be received by October 19, 2009.

ADDRESSES: Comments and meeting requests should be sent to the District Manager, Bureau of Land Management, Arizona Strip District Office, 345 East Riverside Drive, St. George, Utah 84790-9000, or Forest Supervisor, Forest Service, Kaibab National Forest, 800 South Sixth St., Williams, Arizona 86046.

FOR FURTHER INFORMATION CONTACT: Scott Florence, District Manager, BLM Arizona Strip District, 435-688-3200, or Michael Williams, Forest Supervisor, Kaibab National Forest, 928-635-8200.

SUPPLEMENTARY INFORMATION: The applicant is the Bureau of Land Management at the address above and its petition/application requests the Secretary of the Interior to withdraw, subject to valid existing rights, the following public lands and National Forest System lands from location and entry under the 1872 Mining Law, but not the mineral leasing, geothermal leasing, mineral materials laws, or public land laws: All the Federal lands identified in the townships below, and all non-Federal lands within the exterior boundaries described below that are subsequently acquired by the Federal government, to the boundary of the Grand Canyon National Game Preserve, including the overlap of the withdrawal for the Kanab Creek Wilderness, as depicted on the map entitled “Petition/Application for Withdrawal” available from the BLM Arizona Strip District office and the FS Kaibab National Forest office at the addresses listed above.

Public Lands

Gila and Salt River Meridian, Arizona

Tps. 40 and 41 N., R. 1E.,

Tps. 38 and 40 N., R. 3 E., to the boundary of the Vermilion Cliffs National Monument,

Tps. 36 to 38 N., Rs. 4 and 5 E., to the boundary of the Vermilion Cliffs National Monument,

Tps. 37 to 39 N., R. 6 E., to the boundary of the Vermilion Cliffs National Monument,

T. 39 N., R. 7 E., to the boundary of the Vermilion Cliffs National Monument,

Tps. 38 to 41 N., R. 1 W.,

Tps. 38 to 40 N., R. 2 W.,

Tps. 36 to 40 N., R. 3 W.,

Tps. 35 to 40 N., Rs. 4 and 5 W.,

Tps. 35 to 39 N., Rs. 6 and 7 W.,

The areas described contain approximately 633,547 acres of public lands in Coconino and Mohave Counties.

National Forest System Lands

Kaibab National Forest

Gila and Salt River Meridian, Arizona.

North Kaibab Ranger District

Tps. 37 to 40 N., R. 3 E., to the boundary of the Vermilion Cliffs National Monument,

Tps. 36 and 37 N., R. 4 E.,

T. 36 N., R. 5 E.,

T. 38 N., R. 3 W.,

Tps. 36 and 37 N., Rs. 3 and 4 W.,

Tusayan Ranger District

Tps. 28 to 31 N., R. 1 E.,

Tps. 28 to 30 N., R 2 E.,

Tps. 27 to 30 N., Rs. 3 to 6 E.,

Tps. 31 and 32 N., R 1 W.,

The areas described contain approximately 360,002 acres of National Forest System lands in Coconino and Mohave Counties.

The total areas described aggregate approximately 993,549 acres of both public and National Forest System lands in Coconino and Mohave Counties located adjacent to the Grand Canyon National Park in Arizona. The total non-Federal lands within the area aggregate approximately 85,673 acres in Coconino and Mohave Counties.

The Secretary of the Interior has approved the Bureau of Land Management's petition for approval to file its withdrawal application. The Secretary's approval of the petition constitutes his proposal to withdraw the subject lands. The Forest Service has consented to proposing the withdrawal of lands under its administrative jurisdiction.

The purpose of the withdrawal, if determined to be appropriate, would be to protect the Grand Canyon watershed from adverse effects of locatable hardrock mineral exploration and mining for up to a 20-year period, which is the maximum allowable for a withdrawal aggregating more than 5,000 acres.

The use of a right-of-way, interagency, or cooperative agreement, or surface management by the Bureau of Land Management under 43 CFR 3715 and 3809 regulations and by the Forest Service under 36 CFR 228 would not adequately constrain nondiscretionary uses which could result in permanent loss of significant values and irreplaceable resources at the site.

There are no suitable alternative sites for the withdrawal.

No water rights would be needed to fulfill the purpose of the requested withdrawal.

Records relating to the application may be examined by contacting the BLM District Manager at the above address or by calling 435-688-3200 or the Forest Supervisor, Kaibab National Forest, 800 South Sixth Street, Williams, AZ 86046 or by calling 928-635-8200.

For a period of 90 days from the date of publication of this notice, all persons who wish to submit comments, suggestions, or objections in connection with the proposed withdrawal may present their views in writing to the BLM District Manager at the address noted above.

Comments including names and street addresses of respondents will be available for public review at the BLM Arizona Strip District Office at the address noted above, during regular business hours 8 a.m. to 4:30 p.m., Monday through Friday, except holidays. Before including your address, phone number, e-mail address, or other personal identifying information in your comment, you should be aware that your entire comment—including your personal identifying information—may be made publicly available at any time. While you can ask us in your comment to withhold your personal identifying information from public review, we cannot guarantee that we will be able to do so. Individual respondents may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

Notice is hereby given that one or more public meetings will be held in connection with the proposed withdrawal. All interested persons who desire a public meeting for the purpose of being heard on the proposed withdrawal must submit a written request to the BLM District Manager no later than October 19, 2009. A notice of the time and place of any public meetings will be published in the Federal Register and a local newspaper at least 30 days before the scheduled date of the meeting.

This application/proposal will be processed in accordance with the regulations set forth in 43 CFR part 2300.

For a period of 2 years from the date of publication of this notice in the Federal Register, the lands described in this notice will be segregated from location and entry under the 1872 Mining Law, unless the application/proposal is denied or canceled or the withdrawal is approved prior to that date. Licenses, permits, cooperative agreements, or other discretionary land use authorizations may be allowed with the approval of an authorized officer of the Bureau of Land Management or Forest Service during the segregative period.

Authority: 43 CFR 2310.3-1.

Dated: July 16, 2009.
Mike Pool,
Acting Director, Bureau of Land Management.

[FR Doc. E9-17293 Filed 7-20-09; 8:45 am]

BILLING CODE 4310-32-P